DEPARTMENT OF HEALTH AND HUMAN SERVICES

National Institutes of Health

Center for Scientific Review; Amended Notice of Meeting

Notice is hereby given of a change in the meeting of the Center for Scientific Review Special Emphasis Panel, January 6, 2011, 1 p.m. to January 6, 2011, 3:30 p.m., National Institutes of Health, 6701 Rockledge Drive, Bethesda, MD 20892 which was published in the Federal Register on December 16, 2010, 75 FR 78719-78720.

The meeting has been changed to an Internet Assisted Meeting (IAM). The meeting will be two days January 6, 2011, 9 a.m. to January 7, 2011, 5 p.m. The meeting is closed to the public.

Dated: December 21, 2010.
Jennifer S. Spaeth,
Director, Office of Federal Advisory Committee Policy.

[FR Doc. 2010-32638 Filed 12-27-10; 8:45 am]

BILLING CODE 4140-01-P